DEPARTMENT OF ENERGY

Federal Energy Regulatory Commission

Combined Notice of Filings

September 4, 2008.

Take notice that the Commission has received the following Natural Gas Pipeline Rate and Refund Report filings:

Docket Numbers: RP02-534-008.

Applicants: Guardian Pipeline, L.L.C.

Description: Guardian Pipeline, LLC submits Original Sheet 9 to FERC Gas Tariff, Original Volume 1, to be effective 7/1/08.

Filed Date: 09/02/2008.

Accession Number: 20080903-0203.

Comment Date: 5 p.m. Eastern Time on Monday, September 15, 2008.

Docket Numbers: RP07-443-004.

Applicants: Iroquois Gas Transmission System, L.P.

Description: Iroquois Gas Transmission System, LP submits Fifth Revised Sheet 68 et al to FERC Gas Tariff, First Revised Volume 1, to be effective 9/1/08.

Filed Date: 09/02/2008.

Accession Number: 20080903-0044.

Comment Date: 5 p.m. Eastern Time on Monday, September 15, 2008.

Docket Numbers: RP08-257-001.

Applicants: Saltville Gas Storage Company L.L.C.

Description: Saltville Gas Storage Co, LLC submits Sub Sixth Revised Sheet 11 et al to FERC Gas Tariff, Original Volume 1, to be effective 9/1/08.

Filed Date: 08/29/2008.

Accession Number: 20080903-0204.

Comment Date: 5 p.m. Eastern Time on Wednesday, September 10, 2008.

Docket Numbers: RP08-561-000.

Applicants: Florida Gas Transmission Company, LLC.

Description: Florida Transmission Company LLC submits Eleventh Revised Sheet 7 et al to FERC Gas Tariff, Fourth Revised Volume 1, to be effective 10/1/08.

Filed Date: 08/29/2008.

Accession Number: 20080903-0001.

Comment Date: 5 p.m. Eastern Time on Wednesday, September 10, 2008.

Docket Numbers: RP08-562-000.

Applicants: Northern Natural Gas Company.

Description: Northern Natural Gas Co submits 77 Revised Sheet 50 et al to FERC Gas Tariff, Fifth Revised Volume 1.

Filed Date: 08/29/2008.

Accession Number: 20080903-0002.

Comment Date: 5 p.m. Eastern Time on Wednesday, September 10, 2008.

Docket Numbers: RP08-563-000.

Applicants: Florida Gas Transmission Company, LLC.

Description: Florida Gas Transmission Company LLC submits Twelfth Revised Sheet 7 et al to FERC Gas Tariff, Fourth Revised Volume 1, to be effective 10/1/08.

Filed Date: 08/29/2008.

Accession Number: 20080903-0003.

Comment Date: 5 p.m. Eastern Time on Wednesday, September 10, 2008.

Docket Numbers: RP08-564-000.

Applicants: Petal Gas Storage L.L.C.

Description: Petal Gas Storage LLC submits Sixth Revised Sheet 4A to FERC Gas Tariff, Original Volume 1, to be effective 10/1/08.

Filed Date: 08/29/2008.

Accession Number: 20080903-0004.

Comment Date: 5 p.m. Eastern Time on Wednesday, September 10, 2008.

Docket Numbers: RP08-565-000.

Applicants: KO Transmission Company.

Description: KO Transmission Co submits Twenty-fourth Revised Sheet 10 to FERC Gas Tariff, Original Volume 1, to be effective 10/1/08.

Filed Date: 08/29/2008.

Accession Number: 20080903-0005.

Comment Date: 5 p.m. Eastern Time on Wednesday, September 10, 2008.

Docket Numbers: RP08-566-000.

Applicants: Kinder Morgan Interstate Gas Trans. LLC.

Description: Kinder Morgan Interstate Gas Transmission LLC submits Fourteenth Revised Sheet 4D to FERC Gas Tariff, Fourth Revised Volume 1A, to be effective 10/1/08.

Filed Date: 08/29/2008.

Accession Number: 20080903-0006.

Comment Date: 5 p.m. Eastern Time on Wednesday, September 10, 2008.

Docket Numbers: RP08-567-000.

Applicants: Alliance Pipeline L.P.

Description: Alliance Pipeline LP submits Sixth Revised Sheet 10 to FERC Gas Tariff, Original Volume 1, to be effective 10/1/08.

Filed Date: 08/29/2008.

Accession Number: 20080903-0008.

Comment Date: 5 p.m. Eastern Time on Wednesday, September 10, 2008.

Docket Numbers: RP08-568-000.

Applicants: TransColorado Gas Transmission Company L.

Description: TransColorado Gas Transmission Co LLC submits Second Revised Sheet 20 et al to FERC Gas Tariff, First Revised Volume 1, to be effective 10/1/08.

Filed Date: 08/29/2008.

Accession Number: 20080903-0007.

Comment Date: 5 p.m. Eastern Time on Wednesday, September 10, 2008.

Docket Numbers: RP08-569-000.

Applicants: Tennessee Gas Pipeline Company.

Description: Tennessee Gas Pipeline Co submits Thirty-Seventh Revised Sheet 20 et al. to FERC Gas Tariff, Fifth Revised Volume 1, to be effective 10/1/08.

Filed Date: 08/29/2008.

Accession Number: 20080903-0009.

Comment Date: 5 p.m. Eastern Time on Wednesday, September 10, 2008.

Docket Numbers: RP08-570-000.

Applicants: WestGas InterState, Inc.

Description: WestGas InterState, Inc submits Tenth Revised Sheet 5 to FERC Gas Tariff, First Revised Volume 1, to be effective 10/1/08.

Filed Date: 08/29/2008.

Accession Number: 20080903-0011.

Comment Date: 5 p.m. Eastern Time on Wednesday, September 10, 2008.

Docket Numbers: RP08-571-000.

Applicants: Ozark Gas Transmission, LLC.

Description: Ozark Gas Transmission, LLC submits Eighth Revised Sheet 13 to FERC Gas Tariff, Original Volume 1.

Filed Date: 08/29/2008.

Accession Number: 20080903-0010.

Comment Date: 5 p.m. Eastern Time on Wednesday, September 10, 2008.

Docket Numbers: RP08-572-000.

Applicants: Stingray Pipeline Company, LLC.

Description: Stingray Pipeline Co, LLC submits Nineteenth Revised Sheet 5 to FERC Gas Tariff, Third Revised Volume 1, to be effective 10/1/08.

Filed Date: 08/29/2008.

Accession Number: 20080903-0012.

Comment Date: 5 p.m. Eastern Time on Wednesday, September 10, 2008.

Docket Numbers: RP08-573-000.

Applicants: Portland Natural Gas Transmission System.

Description: Portland Natural Gas Transmission System submits Fourth Revised Sheet 100 et al. to FERC Gas Tariff, Second Revised Volume 1, to be effective 10/1/08.

Filed Date: 08/29/2008.

Accession Number: 20080903-0013.

Comment Date: 5 p.m. Eastern Time on Wednesday, September 10, 2008.

Docket Numbers: RP08-574-000.

Applicants: CenterPoint Energy Gas Transmission Co.

Description: CenterPoint Energy Gas Transmission Co submits Third Revised Sheet 603A to FERC Gas Tariff, Sixth Revised Volume 1, to be effective 10/1/08.

Filed Date: 08/29/2008.

Accession Number: 20080903-0014.

Comment Date: 5 p.m. Eastern Time on Wednesday, September 10, 2008.

Docket Numbers: RP08-575-000.

Applicants: Gulf States Transmission Corporation.

Description: Gulf States Transmission Corporation submits Fifth Revised Sheet No. 5 et al. to FERC Gas Tariff, Original Volume No. 1, to be effective 10/1/08.

Filed Date: 08/29/2008.

Accession Number: 20080903-0015.

Comment Date: 5 p.m. Eastern Time on Wednesday, September 10, 2008.

Docket Numbers: RP08-576-000.

Applicants: Black Marlin Pipeline Company.

Description: Black Marlin Pipeline Co submits Seventeenth Revised Sheet 4 to FERC Gas Tariff, First Revised Volume 1, to be effective 10/1/08.

Filed Date: 08/29/2008.

Accession Number: 20080903-0017.

Comment Date: 5 p.m. Eastern Time on Wednesday, September 10, 2008.

Docket Numbers: RP08-577-000.

Applicants: Discovery Gas Transmission LLC.

Description: Discovery Gas Transmission LLC submits Fourteenth Revised Sheet 20 to FERC Gas Tariff, Original Volume 1, to be effective 10/1/08.

Filed Date: 08/29/2008.

Accession Number: 20080903-0016.

Comment Date: 5 p.m. Eastern Time on Wednesday, September 10, 2008.

Docket Numbers: RP08-578-000.

Applicants: Energy West Development, Inc.

Description: Energy West Development, Inc submits Third Revised Sheet 3 to FERC Gas Tariff, Volume 1, to be effective 10/1/08.

Filed Date: 08/29/2008.

Accession Number: 20080903-0018.

Comment Date: 5 p.m. Eastern Time on Wednesday, September 10, 2008.

Docket Numbers: RP08-579-000.

Applicants: Panhandle Eastern Pipe Line Company, LP.

Description: Panhandle Eastern Pipe Line Co, LP submits Nineteenth Revised Sheet 4 et al. to FERC Gas Tariff, Third Revised Volume 1, to be effective 10/1/08.

Filed Date: 08/29/2008.

Accession Number: 20080903-0019.

Comment Date: 5 p.m. Eastern Time on Wednesday, September 10, 2008.

Docket Numbers: RP08-580-000.

Applicants: Southwest Gas Storage Company.

Description: Southwest Gas Storage Co submits Twenty-Third Revised Sheet No. 5 to FERC Gas Tariff, First Revised Volume 1, to be effective 10/1/08.

Filed Date: 08/29/2008.

Accession Number: 20080903-0020.

Comment Date: 5 p.m. Eastern Time on Wednesday, September 10, 2008.

Docket Numbers: RP08-595-000.

Applicants: Pine Needle LNG Company, LLC.

Description: Pine Needle LNG Co, LLC submits Sixteenth Revised Sheet 4 to FERC Gas Tariff, Original Volume 1, to be effective 10/1/08.

Filed Date: 08/29/2008.

Accession Number: 20080903-0039.

Comment Date: 5 p.m. Eastern Time on Wednesday, September 10, 2008

Docket Numbers: RP08-596-000.

Applicants: Northwest Pipeline GP.

Description: Northwest Pipeline GP submits Second Revised Sheet 14 to FERC Gas Tariff, Fourth Revised Volume 1, to be effective 10/1/08.

Filed Date: 08/29/2008.

Accession Number: 20080903-0038.

Comment Date: 5 p.m. Eastern Time on Wednesday, September 10, 2008.

Docket Numbers: RP08-597-000.

Applicants: Puget Sound Energy, Inc.

Description: Puget Sound Energy, Inc submits Seventh Revised Sheet 1 et al to FERC Gas Tariff, Original Volume 1, to be effective 9/30/08.

Filed Date: 08/29/2008.

Accession Number: 20080903-0037.

Comment Date: 5 p.m. Eastern Time on Wednesday, September 10, 2008.

Docket Numbers: RP08-598-000.

Applicants: Southern Natural Gas Company.

Description: Southern Natural Gas Co submits Sixty-Ninth Sheet 14 et al to FERC Gas Tariff, Seventh Revised Volume 1, to be effective 10/1/08.

Filed Date: 08/29/2008.

Accession Number: 20080903-0036.

Comment Date: 5 p.m. Eastern Time on Wednesday, September 10, 2008.

Docket Numbers: RP08-599-000.

Applicants: Southern LNG Inc.

Description: Southern LNG Inc submits Twenty-First Sheet 5 et al to FERC Gas Tariff, Original Volume 1, to be effective 10/1/08.

Filed Date: 08/29/2008.

Accession Number: 20080903-0035.

Comment Date: 5 p.m. Eastern Time on Wednesday, September 10, 2008

Docket Numbers: RP08-600-000.

Applicants: Colorado Interstate Gas Company.

Description: Colorado Interstate Gas Company submits Fifty-Second Revised Sheet 11A to FERC Gas Tariff, First Revised Volume 1 that reflects revised reimbursement percentages applicable to Rate Schedule CS-1 etc.

Filed Date: 08/29/2008.

Accession Number: 20080903-0041.

Comment Date: 5 p.m. Eastern Time on Wednesday, September 10, 2008.

Docket Numbers: RP08-601-000.

Applicants: Sabine Pipe Line LLC.

Description: Sabine Pipe Line LLC submits Eleventh Revised Sheet 20 to FERC Gas Tariff, Original Volume 1, to be effective 10/1/08.

Filed Date: 09/02/2008.

Accession Number: 20080903-0202.

Comment Date: 5 p.m. Eastern Time on Monday, September 15, 2008.

Docket Numbers: RP08-602-000.

Applicants: Sabine Pipe Line LLC.

Description: Sabine Pipe Line LLC submits Third Revised Sheet 245 to FERC Gas Tariff, Original Volume 1, to be effective 11/1/08.

Filed Date: 09/02/2008.

Accession Number: 20080903-0201.

Comment Date: 5 p.m. Eastern Time on Monday, September 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-20850 Filed 9-8-08; 8:45 am]

BILLING CODE 6717-01-P